FEDERAL DEPOSIT INSURANCE CORPORATION

[OMB No. 3064-0019]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0019).

DATES: Comments must be submitted on or before July 1, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Interagency Notice of Change in Control.

OMB Number: 3064-0019.

Form Number: 6822/01.

Affected Public: Individuals, insured state nonmember banks, and insured state savings associations.

Burden Estimate:

Summary of Estimated Annual Burden (OMB No. 3064-0019)
Information collection (IC) (obligation to respond) | Type of burden (frequency of response) | Number of respondents | Number of responses per respondent | Time per response (HH:MM) | Annual burden (hours)
1. Form 6822/01—Interagency Notice of Change in Control, 12 CFR 303.85 (Mandatory) | Reporting (On Occasion) | 34 | 0.82 | 29:30 | 826
2. Interagency Notice of Change in Control Public Notice Requirement, 12 CFR 303.87 (Mandatory) | Disclosure (On Occasion) | 34 | 0.82 | 01:00 | 28
Total Annual Burden (Hours) |  |  |  |  | 854
Source: FDIC.

General Description of Collection: Section 7(j) of the FDIA (12 U.S.C. 1817(j)) and sections 303.80-88 of the FDIC Rules and Regulations (12 CFR 303.80 et seq.) require that any person proposing to acquire control of an insured depository institution and certain parent companies thereof provide 60 days prior written notice of the proposed acquisition to the appropriate federal banking agency. Such written notice which pertains to the acquisition of control of an FDIC supervised institution and certain parent companies thereof is filed with the regional director of the FDIC region in which the bank is located. The FDIC reviews the information reported in the Notice to assess, in part, any anticompetitive and monopolistic effects of the proposed acquisition, to determine if the financial condition of any acquiring person or the future prospects of the institution might jeopardize the financial stability of the institution or prejudice the interests of the depositors of the institution, and to determine whether the competence, experience, or integrity of any acquiring person, or of any of the proposed management personnel, indicates that it would not be in the interest of the depositors of the institution, or in the interest of the public, to permit such persons to control the bank. The FDIC must also make an independent determination of the accuracy and completeness of all of the information required to be filed in conjunction with a Notice.

The FDIC is increasing the total burden associated with this collection from 549 hours to 854 hours. This information collection contains a disclosure requirement, which was not recognized in the 2021 submission. The 305 increase in burden hours is due to the addition of the disclosure requirement and the use of a more accurate methodology to estimate the number of respondents and responses per respondent.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
By order of the Board of Directors.
Dated at Washington, DC, April 26, 2024.
James P. Sheesley,
Assistant Executive Secretary.

[FR Doc. 2024-09374 Filed 4-30-24; 8:45 am]

BILLING CODE 6714-01-P